DEPARTMENT OF HOMELAND SECURITY

Federal Emergency Management Agency

44 CFR Part 65

[Docket ID FEMA-2011-0002; Internal Agency Docket No. FEMA-B-1237]

Changes in Flood Elevation Determinations

Correction

In rule document 2012-488 appearing on pages 1887-1889 in the issue of Thursday, January 12, 2012, make the following corrections: In the table appearing on pages 1888-1889, the column titled “Chief executive officer of community” is corrected to appear as set forth below.

§ 65.4 [Corrected]

State and county | Location and case No. | Date and name of newspaper where notice was published | Chief executive officer of community | Effective date of modification | Community No.
Delaware:
Kent | Town of Camden (10-03-0303P) | February 18, 2011; February 25, 2011; The Delaware State News | The Honorable Richard E. Maly, Mayor, Town of Camden, 1783 Friends Way, Camden, DE 19934 | June 27, 2011 | 100003
Kent | Unincorporated areas of Kent County (10-03-0303P) | February 18, 2011; February 25, 2011; The Delaware State News | The Honorable P. Brooks Banta, President, Kent County Levy Court, Administrative Complex, 555 South Bay Road, Room 243, Dover, DE 19901 | June 27, 2011 | 100001
Puerto Rico: Puerto Rico | Commonwealth of Puerto Rico (10-02-1752P) | October 13, 2011; October 20, 2011; El Nuevo Dia | The Honorable Rubén Flores-Marzán, Chairperson, Puerto Rico Planning Board, Roberto Sanchez Vilella Governmental Center, North Building, 16th Floor, De Diego Avenue International Baldorioty de Castro Avenue, San Juan, PR 00940 | October 6, 2011 | 720000
Texas:
Bexar | City of San Antonio (11-06-0604P) | November 4, 2011; November 11, 2011; The San Antonio Express-News | The Honorable Julián Castro, Mayor, City of San Antonio, 100 Military Plaza, San Antonio, TX 78205 | March 12, 2012 | 480045
Bexar | Unincorporated areas of Bexar County (11-06-3419P) | November 16, 2011; November 23, 2011; The Daily Commercial Recorder | The Honorable Nelson W. Wolff, Bexar County Judge, 101 West Nueva Street, 10th Floor, San Antonio, TX 78205 | March 22, 2012 | 480035
Denton | Town of Flower Mound (11-06-2301P) | October 25, 2011; November 1, 2011; The Denton Record-Chronicle | The Honorable Melissa D. Northern, Mayor, Town of Flower Mound, 2121 Cross Timbers Road, Flower Mound, TX 75028 | February 29, 2012 | 480777
Denton | Unincorporated areas of Denton County (11-06-1910P) | October 28, 2011; November 4, 2011; The Denton Record-Chronicle | The Honorable Mary Horn, Denton County Judge, 110 West Hickory Street, 2nd Floor, Denton, TX 76201 | October 21, 2011 | 480774
Grimes | Unincorporated areas of Grimes County (11-06-2364P) | November 9, 2011; November 16, 2011; The Navasota Examiner | The Honorable Betty Shiflett, Grimes County Judge, Grimes County Courthouse, 100 Main Street, Anderson, TX 77830 | May 2, 2012 | 481173
Montgomery | Unincorporated areas of Montgomery County (11-06-3114P) | October 26, 2011; November 2, 2011; The Conroe Courier | The Honorable Alan Sadler, Montgomery County Judge, 501 North Thompson Street, Suite 401, Conroe, TX 77301 | October 19, 2011 | 480483
Tarrant | City of Crowley (11-06-1037P) | November 3, 2011; November 10, 2011; The Crowley Star | The Honorable Billy P. Davis, Mayor, City of Crowley, 201 East Main Street, Crowley, TX 76036 | March 9, 2012 | 480591
Tarrant | City of Fort Worth (11-06-2373P) | November 1, 2011; November 8, 2011; The Fort Worth Star-Telegram | The Honorable Betsy Price, Mayor, City of Fort Worth, 1000 Throckmorton Street, Fort Worth, TX 76102 | March 7, 2012 | 480596
Victoria | City of Victoria (11-06-1656P) | November 3, 2011; November 10, 2011; The Victoria Advocate | The Honorable Will Armstrong, Mayor, City of Victoria, 105 West Juan Linn Street, Victoria, TX 77901 | March 9, 2012 | 480638
Virginia: Henrico | Unincorporated areas of Henrico County (10-03-0514P) | December 14, 2010; December 21, 2010; The Richmond Times-Dispatch | Mr. Virgil R. Hazelett, Henrico County Manager, 4301 East Parham Road, Henrico, VA 23228 | April 20, 2011 | 510077

[FR Doc. C1-2012-488 Filed 3-1-12; 8:45 am]

BILLING CODE 1505-01-D